ENVIRONMENTAL PROTECTION AGENCY

40 CFR Part 63

[EPA-R06-OAR-2012-0765; FRL-9918-62-Region 6]

National Emission Standards for Hazardous Air Pollutants; Delegation of Authority to Arkansas

AGENCY: Environmental Protection Agency (EPA).

ACTION: Proposed rule.

SUMMARY: The EPA is proposing to approve, through a “direct final” procedure, a request for delegation of the Federal air toxics program contained within 40 CFR Parts 63 pursuant to Section 112(l) of the Clean Air Act (Act). The State's mechanism of delegation involves the straight delegation of certain existing and future Section 112 standards unchanged from the Federal standards. The actual delegation of authority of individual standards, except standards addressed specifically in this action, will occur through a mechanism set forth in a memorandum of agreement (MOA) between the Arkansas Department of Environmental Quality (ADEQ) and EPA. ADEQ is requesting delegation and approval to implement and enforce the existing Part 63 standards as they apply to Part 70 sources, including major and area sources subject to the Title V (Part 70) permitting requirements. The delegation of authority under this action does not include CAA Section 112(r).

DATES: Written comments on this proposed rule must be received on or before December 12, 2014.

ADDRESSES: Comments may be mailed to Mr. Rick Barrett, Air Permits Section (6PD-R), Environmental Protection Agency, 1445 Ross Avenue, Suite 1200, Dallas, Texas 75202-2733. Comments may also be submitted electronically or through hand delivery/courier by following the detailed instructions in the Addresses section of the direct final rule located in the rules section of this Federal Register.

FOR FURTHER INFORMATION CONTACT: Mr. Rick Barrett, (214) 665-7227, barrett.richard@epa.gov.

SUPPLEMENTARY INFORMATION: In the final rules section of this Federal Register, EPA is approving ADEQ's request for delegation of authority to implement and enforce certain NESHAPs for all sources which are subject to part 70 as a direct rule without prior proposal because the Agency views this as noncontroversial action and anticipates no adverse comments. A detailed rationale for this proposed approval is set forth in the direct final rule. If no relevant, adverse comments are received in response to this action no further activity is contemplated. If EPA receives relevant, adverse comments, the direct final rule will be withdrawn and all public comments received will be addressed in a subsequent final rule based on this proposed rule. EPA will not institute a second comment period. Any parties interested in commenting on this action should do so at this time.

For additional information, see the direct final rule which is located in the rules section of this Federal Register.

Dated: October 14, 2014.
Ron Curry,
Regional Administrator, Region 6.

[FR Doc. 2014-25947 Filed 11-10-14; 8:45 am]

BILLING CODE 6560-50-P